SECURITIES AND EXCHANGE COMMISSION

[OMB Control No. 3235-0278]

Agency Information Collection Activities; Submission for OMB Review; Comment Request; Extension: Rule 204-2

Upon Written Request, Copies Available From: Securities and Exchange Commission, Office of FOIA Services, 100 F Street NE, Washington, DC 20549-2736

Notice is hereby given that, pursuant to the Paperwork Reduction Act of 1995 (44 U.S.C. § 3501 et seq.), the Securities and Exchange Commission (SEC or “Commission”) is submitting to the Office of Management and Budget (OMB) this request for extension of the previously approved collection of information discussed below.

The title for the collection of information is “Rule 204-2” (17 CFR 275.204-2) under the Investment Advisers Act of 1940 (15 U.S.C. 80b-4). Rule 204-2 requires SEC-registered investment advisers to maintain copies of certain books and records relating to their advisory business. The collection of information under rule 204-2 is necessary for the Commission staff to use in its examination and oversight program. This collection of information is mandatory. Responses provided to the Commission in the context of its examination and oversight program are generally kept confidential. The records that an adviser must keep in accordance with rule 204-2 must generally be retained for not less than five years.

The respondents to the collection of information are investment advisers registered with the Commission. The Commission has estimated that compliance with the requirements of the rule imposes a total burden of approximately 184.9298 hours for an adviser. As of December 31, 2024, there were 15,906 SEC registered advisers. Based on this figure, the Commission staff estimates a total annual burden of 2,941,493.40 hours for the collection of this information.

An agency may not conduct or sponsor, and a person is not required to respond to, a collection of information unless it displays a currently valid OMB Control Number.

The public may view and comment on this information collection request at: https://www.reginfo.gov/public/do/PRAViewICR?ref_nbr=202512-3235-015 or email comment to MBX.OMB.OIRA.SEC_desk_officer@omb.eop.gov within 30 days of the day after publication of this notice, by April 6, 2026.

Dated: February 27, 2026.
Sherry R. Haywood,
Assistant Secretary.

[FR Doc. 2026-04235 Filed 3-3-26; 8:45 am]

BILLING CODE 8011-01-P